DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of persons whose property and interests in property have been unblocked pursuant to Executive Order 13850 of November 1, 2018, “Blocking Property of Additional Persons Contributing to the Situation in Venezuela” (“E.O. 13850”), as amended by Executive Order 13857 of January 25, 2019, “Taking Additional Steps To Address the National Emergency With Respect to Venezuela” (“E.O. 13857”). Additionally, OFAC is publishing an update to the identifying information of persons currently included in the Specially Designated Nationals and Blocked Persons List (SDN List).

DATES: See SUPPLEMENTARY INFORMATION section for applicable date(s).

FOR FURTHER INFORMATION CONTACT: OFAC: Andrea Gacki, Director, tel.: 202-622-2480; Associate Director for Global Targeting, tel: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On March 31, 2021, OFAC removed from the SDN List the persons listed below, whose property and interests in property were blocked pursuant to E.O. 13850, as amended by E.O. 13857. On March 31, 2021, OFAC determined that circumstances no longer warrant the inclusion of the following persons on the SDN List under this authority. These persons are no longer subject to the blocking provisions of Section 1(a) of E.O. 13850, as amended by E.O. 13857.

Entities:

1. AMG S.A.S. DI ALESSANDRO BAZZONI & C. (a.k.a. AMG S.A.S. DI ALESSANDRO BAZZONI AND C.; a.k.a. AMG S.A.S. DI ALESSANDRO BAZZONI E C.), Via Sottomonte 5, Verona 37124, Italy; V.A.T. Number IT02483560237 (Italy) [VENEZUELA-EO13850].

2. SERIGRAPHICLAB DI BAZZONI ALESSANDRO, Via Amsicora 46, Porto Torres 07046, Italy; V.A.T. Number 02732450909 (Italy) [VENEZUELA-EO13850].

Dated: March 31, 2020.
Bradley T. Smith,
Acting Director, Office of Foreign Assets Control, U.S. Department of the Treasury.

[FR Doc. 2021-07534 Filed 4-12-21; 8:45 am]

BILLING CODE 4810-AL-P